FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than February 20, 2020.

A. Federal Reserve Bank of Chicago (Colette A. Fried, Assistant Vice President) 230 South LaSalle Street, Chicago, Illinois 60690-1414:

1. Orpheus Capital Limited Partnership, Steven Lange Ranzini and Dr. Joseph Lange Ranzini, as general partners; Joseph Louis Ranzini Trust dated 12/20/1989, Stephen Lange Ranzini and Dr. Joseph Louis Ranzini, as co-trustees; Stephen Lange Ranzini; Stephen Lange Ranzini and Lisa Ranzini as joint tenants with right of survivorship; University Bancorp, Inc. Employee Stock Ownership and Retirement Savings Plan, Stephen Lange Ranzini, trustee, all of Ann Arbor, Michigan; Mildred Lange Ranzini, Gainseville, Georgia; Dr. Joseph Lange Ranzini and Marjorie Joan Huiner Ranzini, joint tenants with right of survivorship; Dr. Joseph Lange Ranzini Retirement Savings Plan, Dr. Joseph Lange Ranzini, trustee, all of Waynesboro, Virginia; Angela Clare Ranzini; Angela Clare Ranzini and Christopher Ko Hu as joint tenants in common; and Christopher Ko Hu, all of Shaker Heights, Ohio; as members of the Ranzini Family Group acting in concert to retain voting shares of University Bancorp, Inc., and thereby indirectly retain voting shares of University Bank, both of Ann Arbor, Michigan.

B. Federal Reserve Bank of Minneapolis (Mark A. Rauzi, Vice President) 90 Hennepin Avenue, Minneapolis, Minnesota 55480-0291:

1. Gale M. Hoese, Glencoe, Minnesota; to acquire voting shares of Redwood Financial, Inc., and thereby indirectly acquire HomeTown Bank, both of Redwood Falls, Minnesota. In addition, Gale M. Hoese together with the Todd C. Hoese Revocable Trust, Waconia, Minnesota, Jonathan T. Hoese, Golden Valley, Minnesota, trustee; Security Bancshares Co., Glencoe, Minnesota; Jonathan T. Hoese, Golden Valley, Minnesota; David J. Schornack and Denise N. Schornack, both of Perham, Minnesota; Andrew Schornack and Jill Schornack, both of Rosemount, Minnesota; Tamara Jo Hoese Retka and Noah D. Retka, Glencoe, Minnesota, as members of a group acting in concert to retain voting shares of Redwood Financial Inc., and thereby indirectly retain voting shares of HomeTown Bank.

Board of Governors of the Federal Reserve System, January 31, 2020.
Ann Misback,
Secretary of the Board.

[FR Doc. 2020-02316 Filed 2-5-20; 8:45 am]

BILLING CODE 6210-01-P